DEPARTMENT OF ENERGY

Federal Energy Regulatory Commission

Combined Notice of Filings #1

Take notice that the Commission received the following electric corporate filings:

Docket Numbers: EC19-97-000.

Applicants: NedPower Mount Storm LLC.

Description: Application for Authorization Under Section 203 of the Federal Power Act, et al. of NedPower Mount Storm LLC.

Filed Date: 05/31/2019.

Accession Number: 20190531-5494.

Comment Date: 5:00 p.m. ET 6/21/19.

Take notice that the Commission received the following electric rate filings:

Docket Numbers: ER10-2732-017; ER10-2733-017; ER10-2734-017; ER10-2736-017; ER10-2737-017; ER10-2741-017; ER10-2749-017; ER10-2752-017; ER12-2492-013; ER12-2493-013; ER12-2494-013; ER12-2495-013; ER12-2496-013; ER16-2455-007; ER16-2456-007; ER16-2457-007; ER16-2458-007; ER16-2459-007; ER18-1404-003.

Applicants: Emera Energy Services Inc., Emera Energy U.S. Subsidiary No. 1, Inc., Emera Energy U.S. Subsidiary No. 2, Inc., Emera Energy Services Subsidiary No. 1 LLC, Emera Energy Services Subsidiary No. 2 LLC, Emera Energy Services Subsidiary No. 3 LLC, Emera Energy Services Subsidiary No. 4 LLC, Emera Energy Services Subsidiary No. 5 LLC, Emera Energy Services Subsidiary No. 6 LLC, Emera Energy Services Subsidiary No. 7 LLC, Emera Energy Services Subsidiary No. 8 LLC, Emera Energy Services Subsidiary No. 9 LLC, Emera Energy Services Subsidiary No. 10 LLC, Emera Energy Services Subsidiary No. 11 LLC, Emera Energy Services Subsidiary No. 12 LLC, Emera Energy Services Subsidiary No. 13 LLC, Emera Energy Services Subsidiary No. 14 LLC, Emera Energy Services Subsidiary No. 15 LLC, NS Power Energy Marketing Inc.

Description: Notice of Change in Status of the Emera Entities.

Filed Date: 05/31/2019.

Accession Number: 20190531-5500.

Comment Date: 5:00 p.m. ET 6/21/19.

Docket Numbers: ER13-1966-004.

Applicants: GenOn Wholesale Generation, LP.

Description: GenOn Wholesale Generation, LP submits tariff filing per 35: Compliance Filing and Request for Administrative Cancellation to be effective 5/9/2018.

Filed Date: 06/03/2019.

Accession Number: 20190603-5062.

Comment Date: 5:00 p.m. ET 6/24/19.

Docket Numbers: ER18-1156-002.

Applicants: St. Joseph Energy Center, LLC.

Description: St. Joseph Energy Center, LLC submits tariff filing per 35: Settlement Compliance Filing to be effective 5/29/2018.

Filed Date: 06/03/2019.

Accession Number: 20190603-5083.

Comment Date: 5:00 p.m. ET 6/24/19.

Docket Numbers: ER19-1864-001.

Applicants: Public Service Company of Colorado.

Description: Public Service Company of Colorado submits tariff filing per 35: 2019-06-03 Order 845 Compliance Filing—Amnd to be effective 5/22/2019.

Filed Date: 06/03/2019.

Accession Number: 20190603-5085.

Comment Date: 5:00 p.m. ET 6/24/19.

Docket Numbers: ER19-2025-000.

Applicants: Pacific Gas and Electric Company.

Description: Pacific Gas and Electric Company submits tariff filing per 35.13(a)(2)(iii): May 2019 Western WDT Service Agreement Biannual Filing to be effective 8/1/2019.

Filed Date: 05/31/2019.

Accession Number: 20190531-5435.

Comment Date: 5:00 p.m. ET 6/21/19.

Docket Numbers: ER19-2026-000.

Applicants: Puget Sound Energy, Inc.

Description: Puget Sound Energy, Inc. submits tariff filing per 35.13(a)(2)(iii): Air Liquide 449 Filing to be effective 5/1/2019.

Filed Date: 05/31/2019.

Accession Number: 20190531-5400.

Comment Date: 5:00 p.m. ET 6/21/19.

Docket Numbers: ER19-2027-000.

Applicants: Puget Sound Energy, Inc.

Description: Puget Sound Energy, Inc. submits tariff filing per 35.13(a)(2)(iii): Equilon 449 Filing to be effective 5/1/2019.

Filed Date: 05/31/2019.

Accession Number: 20190531-5406.

Comment Date: 5:00 p.m. ET 6/21/19.

Docket Numbers: ER19-2028-000.

Applicants: Puget Sound Energy, Inc.

Description: Puget Sound Energy, Inc. submits tariff filing per 35.13(a)(2)(iii): Tesoro 449 Filing to be effective 5/1/2019.

Filed Date: 05/31/2019.

Accession Number: 20190531-5410.

Comment Date: 5:00 p.m. ET 6/21/19.

Docket Numbers: ER19-2029-000.

Applicants: Mankato Energy Center II, LLC.

Description: Mankato Energy Center II, LLC submits tariff filing per 35.12: Mankato Energy Center II Reactive Supply Service Tariff Filing to be effective 6/1/2019.

Filed Date: 05/31/2019.

Accession Number: 20190531-5470.

Comment Date: 5:00 p.m. ET 6/21/19.

Docket Numbers: ER19-2030-000.

Applicants: PJM Interconnection, L.L.C.

Description: PJM Interconnection, L.L.C. submits tariff filing per 35.13(a)(2)(iii): Revisions to OATT, Part IV re: Interconnection Request Deficiency Review Process to be effective 7/31/2019.

Filed Date: 05/31/2019.

Accession Number: 20190531-5489.

Comment Date: 5:00 p.m. ET 6/21/19.

Docket Numbers: ER19-2032-000.

Applicants: Southwest Power Pool, Inc.

Description: Southwest Power Pool, Inc. submits tariff filing per 35.13(a)(2)(iii): 2213R3 Cimarron Windpower II, LLC GIA to be effective 5/2/2019.

Filed Date: 06/03/2019.

Accession Number: 20190603-5055.

Comment Date: 5:00 p.m. ET 6/24/19.

Docket Numbers: ER19-2033-000.

Applicants: AEP Texas Inc.

Description: AEP Texas Inc. submits tariff filing per 35.13(a)(2)(iii): AEPTX-West Raymond Wind Farm Interconnection Agreement to be effective 5/20/2019.

Filed Date: 06/03/2019.

Accession Number: 20190603-5059.

Comment Date: 5:00 p.m. ET 6/24/19.

Docket Numbers: ER19-2034-000.

Applicants: Southwestern Electric Power Company.

Description: Southwestern Electric Power Company submits tariff filing per 35.13(a)(2)(iii): SWEPCO-GSEC-LHEC Caracara to Beasley DPA to be effective 5/15/2019.

Filed Date: 06/03/2019.

Accession Number: 20190603-5060.

Comment Date: 5:00 p.m. ET 6/24/19.

Take notice that the Commission received the following qualifying facility filings:

Docket Numbers: QF19-1212-000.

Applicants: South Essex Sewerage District.

Description: Form 556 of South Essex Sewerage District.

Filed Date: 05/31/2019.

Accession Number: 20190531-5511.

Comment Date: None-Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 3, 2019.
Nathaniel J. Davis, Sr.,
Deputy Secretary.

[FR Doc. 2019-12045 Filed 6-6-19; 8:45 am]

BILLING CODE 6717-01-P